DEPARTMENT OF THE INTERIOR

National Park Service

Concessions Management Advisory Board, Meeting

AGENCY: Department of the Interior, National Park Service.

ACTION: Notice of meeting.

SUMMARY: Notice is hereby given that a meeting of the Concessions Management Advisory Board will be held on October 21-22, starting at 9 a.m. each day at The Ahwahnee Hotel, Yosemite National Park, California.

DATES: Wednesday, October 21 and Thursday, October 22, 2009.

ADDRESSES: Tudor Room of The Ahwahnee Hotel, Yosemite National Park, California 95389. Park phone number: (209) 372-0200.

FOR FURTHER INFORMATION CONTACT: National Park Service, WASO Commercial Services Program, 1201 Eye Street, NW., 11th Floor, Washington, DC 20005, telephone: 202/513-7150.

SUPPLEMENTARY INFORMATION: The Concessions Management Advisory Board (the Board) was established by Title IV, Section 409 of the National Parks Omnibus Management Act of 1998, November 13, 1998 (Pub. L. 105-391). The purpose of the Board is to advise the Secretary and the National Park Service on matters relating to management of concessions in the National Park System. The Board will meet at 9 a.m. Wednesday, October 21, and 9 a.m. on Thursday, October 22, for the regular business meeting and continued discussion on a number of subjects that will include:

• Concession Contracting Status Update.

• Regional Reports.

• Rate Approval Review and Standards, Evaluations, and Rate Approval Project Update.

• Cooperating Association Steering Committee Report.

• Report on Professionalization of Commercial Services Program—Human Capital Strategy.

• New business.

The meeting will be open to the public, however, facilities and space for accommodating members of the public are limited, and persons will be accommodated on a first-come-first-served basis.

Assistance to Individuals With Disabilities at the Public Meeting

The meeting site is accessible to individuals with disabilities. If you plan to attend and will require an auxiliary aid or service to participate in the meeting (e.g., interpreting service, assistive listening device, or materials in an alternate format), notify the contact person listed in this notice at least 2 weeks before the scheduled meeting date. Attempts will be made to meet any request(s) we receive after that date, however, we may not be able to make the requested auxiliary aid or service available because of insufficient time to arrange for it.

Anyone may file with the Board a written statement concerning matters to be discussed. The Board may also permit attendees to address the Board, but may restrict the length of the presentations, as necessary to allow the Board to complete its agenda within the allotted time. Such requests should be made to the Director, National Park Service, Attention: Chief, Commercial Services Program, at least 7 days prior to the meeting. Draft minutes of the meeting will be available for public inspection approximately 6 weeks after the meeting, at the Commercial Services Program office located at 1201 Eye Street, NW., 11th Floor, Washington, DC.

Dated: August 26, 2009.
Daniel N. Wenk,
Acting Director.

[FR Doc. E9-21632 Filed 9-8-09; 8:45 am]

BILLING CODE M